DEPARTMENT OF ENERGY

Federal Energy Regulatory Commission

Combined Notice of Filings #1

Take notice that the Commission received the following exempt wholesale generator filings:

Docket Numbers: EG16-11-000.

Applicants: Golden Hills Wind, LLC.

Description: Notice of Self-Certification of Exempt Wholesale Generator Status of Golden Hills Wind, LLC.

Filed Date: 10/21/15.

Accession Number: 20151021-5241.

Comments Due: 5 p.m. ET 11/12/15.

Docket Numbers: EG16-12-000.

Applicants: Carousel Wind Farm, LLC.

Description: Notice of Self-certification of Exempt Wholesale Generator Status of Carousel Wind Farm, LLC.

Filed Date: 10/21/15.

Accession Number: 20151021-5242.

Comments Due: 5 p.m. ET 11/12/15.

Take notice that the Commission received the following electric rate filings:

Docket Numbers: ER10-1819-013; ER10-1820-016; ER10-1818-011; ER10-1817-012.

Applicants: Northern States Power Company, a Minnesota corporation, Northern States Power Company, a Wisconsin corporation, Public Service Company of Colorado, Southwestern Public Service Company.

Description: Notice of Change in Status of Northern States Power Company, a Minnesota corporation, et al.

Filed Date: 10/21/15.

Accession Number: 20151021-5213.

Comments Due: 5 p.m. ET 11/12/15.

Docket Numbers: ER16-133-000.

Applicants: PJM Interconnection, L.L.C.

Description: § 205(d) Rate Filing: Original Service Agreement No. 4280; NQ133 to be effective 10/14/2015.

Filed Date: 10/22/15.

Accession Number: 20151022-5102.

Comments Due: 5 p.m. ET 11/12/15.

Docket Numbers: ER16-134-000.

Applicants: PJM Interconnection, L.L.C.

Description: § 205(d) Rate Filing: Original Service Agreement Nos. 4281, 4282; Queue No. AA1-100 to be effective 9/23/2015.

Filed Date: 10/22/15.

Accession Number: 20151022-5117.

Comments Due: 5 p.m. ET 11/12/15.

Docket Numbers: ER16-135-000.

Applicants: Southwest Power Pool, Inc.

Description: § 205(d) Rate Filing: 1637R2 Kansas Electric Power Cooperative, Inc. NITSA and NOA to be effective 10/1/2015.

Filed Date: 10/22/15.

Accession Number: 20151022-5143.

Comments Due: 5 p.m. ET 11/12/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 22, 2015.
Nathaniel J. Davis, Sr.,
Deputy Secretary.

[FR Doc. 2015-27408 Filed 10-27-15; 8:45 am]

BILLING CODE 6717-01-P